DEPARTMENT OF COMMERCE

International Trade Administration

[C-570-011]

Certain Crystalline Silicon Photovoltaic Products From the People's Republic of China: Final Results of Countervailing Duty Administrative Review, and Partial Rescission of Countervailing Duty Administrative Review; 2014-2015

AGENCY: Enforcement and Compliance, International Trade Administration, Department of Commerce.

SUMMARY: The Department of Commerce (the Department) has completed its administrative review of the countervailing duty order (CVD) on crystalline silicon photovoltaic products (solar products) from the People's Republic of China (PRC) for the June 10, 2014, through December 31, 2015, period of review (POR). We have determined that the mandatory respondent Changzhou Trina Solar Energy Co., Ltd. and its cross-owned affiliates (collectively, Trina Solar) received countervailable subsidies during the POR. The final net subsidy rates are listed below in the section, “Final Results of Administrative Review.” We are also rescinding the review for 22 companies for which all review requests were timely withdrawn or for which we have concluded that there were no entries, exports, or sales of the subject merchandise during the POR.

DATES: Applicable September 12, 2017.

FOR FURTHER INFORMATION CONTACT: Joseph Traw, AD/CVD Operations, Office VII, Enforcement and Compliance, International Trade Administration, U.S. Department of Commerce, 1401 Constitution Avenue NW., Washington, DC 20230; telephone (202) 482-6079.

Background

The Department published the Preliminary Results of this administrative review in the Federal Register on March 6, 2017.¹ We invited interested parties to comment on the Preliminary Results. On June 8, 2017, we received timely case briefs from the following interested parties: SolarWorld Americas, Inc. (the petitioner); the Government of China (GOC); Trina Solar; BYD (Shangluo) Industrial Co., Ltd. (BYD); and SNJ Enterprises, LLC, Dba Zamp Solar (SNJ).² On June 15, 2017, we received timely rebuttal comments from the petitioner, the GOC, and Trina Solar.³

¹ See Certain Crystalline Silicon Photovoltaic Products from the People's Republic of China: Preliminary Results of Countervailing Duty Administrative Review and Preliminary Intent To Rescind, in Part; 2014-2015, 82 FR 12562 (March 6, 2017) (Preliminary Results).

² See Petitioner's Case Brief, “Certain Crystalline Silicon Photovoltaic Products from the People's Republic of China: Case Brief of SolarWorld Americas, Inc.,” dated June 8, 2017; GOC's Case Brief, “GOC's Case Brief: Certain Crystalline Silicon Photovoltaic Products from the People's Republic of China,” dated June 8, 2017; Trina Solar's Case Brief, “Crystalline Silicon Photovoltaic Products from the People's Republic of China: Case Brief,” dated June 8, 2017; BYD's Case Brief, “Crystalline Silicon Photovoltaic Products from the People's Republic of China: BYD's Case Brief” dated June 8, 2017; SNJ's Case Brief, “Certain Crystalline Silicon Photovoltaic Products from the People's Republic of China: Case Brief,” dated June 8, 2017.

³ See Petitioner's Rebuttal Brief, “Certain Crystalline Silicon Photovoltaic Products from the People's Republic of China: Rebuttal Brief of SolarWorld Americas, Inc.,” dated June 15, 2017; GOC's Rebuttal Brief, “GOC's Rebuttal Brief Certain Crystalline Silicon Photovoltaic Products from the People's Republic of China,” dated June 15, 2017; Trina Solar's Rebuttal Brief, “Crystalline Silicon Photovoltaic Products from the People's Republic of China: Rebuttal Brief,” dated June 15, 2017.

On June 8, 2017, in accordance with section 751(a)(3)(A) of the Act, the Department extended the period for issuing the final results of this review by 60 days, to September 2, 2017. As September 2, 2017 is a Saturday and September 4, 2017 is Labor Day, the final results were extended until September 5, 2017.⁴

⁴ See Memorandum, “Certain Crystalline Silicon Photovoltaic Products from the People's Republic of China: Extension of the Deadline for Issuing the Final Results of the 2014-2015 Countervailing Duty Administrative Review,” dated June 8, 2017.

Scope of the Order

The merchandise covered by this order are modules, laminates and/or panels consisting of crystalline silicon photovoltaic cells, whether or not partially or fully assembled into other products, including building integrated materials. The product is currently classified under the Harmonized Tariff Schedule of the United States (HTSUS) item numbers 8501.61.0000, 8507.20.8030, 8507.20.8040, 8507.20.8060, 8507.20.8090, 8541.40.6020, 8541.40.6030 and 8501.31.8000. These HTSUS subheadings are provided for convenience and customs purposes; the written description of the scope of this order is dispositive. A full description of the scope of the order is contained in the Issues and Decision Memorandum, which is hereby adopted by this notice.⁵

⁵ See Memorandum, “Decision Memorandum for Final Results and Partial Rescission of Countervailing Duty Administrative Review: Crystalline Silicon Photovoltaic Cells, Whether or Not Assembled Into Modules, from the People's Republic of China; 2014,” dated concurrently with this notice (Issues and Decision Memorandum).

Analysis of Comments Received

All issues raised in interested parties' briefs are addressed in the Issues and Decision Memorandum accompanying this notice. A list of the issues raised by interested parties and to which we responded in the Issues and Decision Memorandum is provided in Appendix I to this notice. The Issues and Decision Memorandum is a public document and is on file electronically via Enforcement and Compliance's Antidumping and Countervailing Duty Centralized Electronic Service System (ACCESS). ACCESS is available to registered users at https://access.trade.gov and in the Central Records Unit, Room B8024 of the main Department of Commerce building. In addition, a complete version of the Issues and Decision Memorandum can be access directly at http://enforcement.trade.gov/frn/. The signed and electronic versions of the Issues and Decision Memorandum are identical in content.

Changes Since the Preliminary Results

Based on case briefs, rebuttal briefs, and all supporting documentation, we made changes from the Preliminary Results. The Department has modified its creditworthiness findings for Trina Solar. In the Preliminary Results, the Department found Trina Solar to be uncreditworthy during the 2012-2015 period. After reviewing Trina Solar's response to the Department's creditworthiness questionnaire,⁶ the Department finds that Trina Solar was uncreditworthy from 2012 to 2013 and creditworthy during 2014 and 2015.⁷

⁶ See Trina Solar's Letter, “Crystalline Silicon Photovoltaic Products from the People's Republic of China: Creditworthiness Questionnaire Response,” dated April 20, 2017.

⁷ See Issues and Decision Memorandum.

Partial Rescission of Review

We are rescinding this administrative review for 22 companies ⁸ named in the Initiation Notice.⁹ In the Preliminary Results, we made a preliminary determination to rescind the review of companies for which all review requests were timely withdrawn.¹⁰ With the exception of BYD, we received no comments with regard to this preliminary determination. We are rescinding the review for these companies in accordance with 19 CFR 351.212(d)(1). With respect to BYD, the Department determined that it made no exports or sales of subject merchandise to the United States during the POR.¹¹

⁸ See Appendix II.

⁹ See Initiation of Antidumping and Countervailing Duty Administrative Reviews, 81 FR 20324, 20348-20349 (April 7, 2016) (Initiation Notice).

¹⁰ See Preliminary Results 82 FR at 12562-12563.

¹¹ See Memorandum, “Decision Memorandum for Final Results and Partial Rescission of Countervailing Duty Administrative Review: Crystalline Silicon Photovoltaic Products from the People's Republic of China; 2014-2015,” dated concurrently (Solar Products Final IDM) at Comment 3.

All companies for which we are rescinding this administrative review are listed in Appendix II to this notice. For these companies, countervailing duties shall be assessed at rates equal to the rates of the cash deposits for estimated countervailing duties required at the time of entry, or withdrawal from warehouse, for consumption, during the POR, in accordance with 19 CFR 351.212(c)(2).

Methodology

The Department conducted this review in accordance with section 751(a)(1)(A) of the Tariff Act of 1930, as amended (the Act). For each of the subsidy programs found to be countervailable, we find that there is a subsidy, i.e., a financial contribution from a government or public entity that gives rise to a benefit to the recipient, and that the subsidy is specific.¹² For a full description of the methodology underlying all of the Department's conclusions, including any determination that relied upon the use of adverse facts available pursuant to sections 776(a) and (b) of the Act, see the Issues and Decision Memorandum.

¹² See sections 771(5)(B) and (D) of the Act regarding financial contribution; section 771(5)(E) of the Act regarding benefit; and section 771(5A) of the Act regarding specificity.

Final Results of Administrative Review

In accordance with 19 CFR 351.221(b)(5), we calculated a countervailable subsidy rate for the mandatory respondent, Trina Solar. For the non-selected companies subject to this review,¹³ we followed the Department's practice, which is to base the subsidy rates on an average of the subsidy rates calculated for those companies selected for individual review, excluding de minimis rates or rates based entirely on adverse facts available.¹⁴ In this case, as there is only a single mandatory respondent, the rate for non-selected companies is the same as the rate for the mandatory respondent. We find the countervailable subsidy rates for the producers/exporters under review to be as follows:

¹³ See Appendix III.

¹⁴ See, e.g., Certain Pasta from Italy: Preliminary Results of the 13th (2008) Countervailing Duty Administrative Review, 75 FR 18806, 18811 (April 13, 2010), unchanged in Certain Pasta from Italy: Final Results of the 13th (2008) Countervailing Duty Administrative Review, 75 FR 37386 (June 29, 2010).

Company | Subsidy rate (percent ad valorem)
Changzhou Trina Solar Energy Co., Ltd. and its Cross-Owned Affiliates ¹⁵ | 13.93
Chint Solar (Zhejiang) Co., Ltd | 13.93
Hefei JA Solar Technology Co., Ltd | 13.93
Perlight Solar Co., Ltd | 13.93
Risen Energy Co., Ltd | 13.93
Shanghai JA Solar Technology Co., Ltd | 13.93
Shenzhen Sungold Solar Co., Ltd | 13.93
Sunny Apex Development Limited | 13.93

Disclosure

We will disclose to the parties in this proceeding the calculations performed for these final results within five days of the date of publication of this notice in the Federal Register.¹⁶

¹⁵ Id. Cross-owned affiliates are: Trina Solar Limited; Trina Solar (Changzhou) Science & Technology Co., Ltd.; Yancheng Trina Solar Energy Technology Co., Ltd.; Changzhou Trina Solar Yabang Energy Co., Ltd.; Hubei Trina Solar Energy Co., Ltd.; Turpan Trina Solar Energy Co., Ltd.; and Changzhou Trina PV Ribbon Materials Co., Ltd.

¹⁶ See 19 CFR 351.224(b).

Assessment Rates

Consistent with 19 CFR 351.212(b)(2), we intend to issue assessment instructions to U.S. Customs and Border Protection (CBP) 15 days after the date of publication of these final results of review, to liquidate shipments of subject merchandise entered, or withdrawn from warehouse, for consumption, on or after June 10, 2014, through December 31, 2015, at the ad valorem rates listed above.

Cash Deposit Instructions

In accordance with section 751(a)(1) of the Act, we intend to instruct CBP to collect cash deposits of estimated countervailing duties in the amounts shown for each of the respective companies listed above. These cash deposit requirements, when imposed, shall remain in effect until further notice.

Administrative Protective Orders

This notice also serves as a reminder to parties subject to administrative protective order (APO) of their responsibility concerning the destruction of proprietary information disclosed under APO in accordance with 19 CFR 351.305(a)(3). Timely written notification of the return or destruction of APO materials or conversion to judicial protective order is hereby requested. Failure to comply with the regulations and terms of an APO is a sanctionable violation.

We are issuing and publishing these results in accordance with sections 751(a)(1) and 777(i)(1) of the Act.

Dated: September 5, 2017.
Gary Taverman,
Deputy Assistant Secretary for Antidumping and Countervailing Duty Operations, performing the non-exclusive functions and duties of the Assistant Secretary for Enforcement and Compliance.

Appendix I—List of Topics Discussed in the Issues and Decision Memorandum

Summary

Background

List of Comments From Interested Parties

Scope of the Order

Changes Since the Preliminary Results

Partial Rescission of Administrative Review

Non-Selected Companies Under Review

Subsidies Valuation Information

Allocation Period

Attribution of Subsidies

Denominators

Creditworthiness

Benchmarks and Discount Rates

Use of Facts Otherwise Available and Adverse Inferences

Programs Determined to be Countervailable

Programs Determined to be Not Countervailable During the POR

Programs Determined Not to be Used or Not to Confer Measurable Benefits

Analysis of Comments

Comment 1: The Scope of the Order is Unlawful

Comment 2: The Final Scope Determination Does Not Apply Retroactively

Comment 3: Rescission of the Review of BYD

Comment 4: Inclusion of Value Added Tax (VAT) in LTAR Benchmarks

Comment 5: Solar Glass Benchmark

Comment 6: Specificity of Glass at LTAR

Comment 7: Benchmark for Aluminum Extrusions

Comment 8: Electricity for LTAR

Comment 9: Usage of Export Buyer's Credit Program

Comment 10: Selection of the Adverse Facts Available (AFA) Rate for Export Buyer's Credit Program

Comment 11: Addition of Ocean Freight and Import Duties to LTAR Benchmarks

Comment 12: Zeroing of Purchases Above Benchmarks

Recommendation

Appendix—Non-Selected Companies Under Review

Appendix II—List of Companies for Which We Are Rescinding This Administrative Review ¹⁷

¹⁷ See Issues and Decision Memorandum at the section, “Partial Rescission of Administrative Review.”

1. Baoding Jiasheng Photovoltaic Technology Co. Ltd.

2. Baoding Tianwei Yingli New Energy Resources Co., Ltd.

3. Beijing Tianneng Yingli New Energy Resources Co. Ltd.

4. BYD (Shangluo) Industrial Co., Ltd.

5. Canadian Solar, Inc.

6. Canadian Solar International, Ltd.

7. Canadian Solar Manufacturing (Changshu), Inc.

8. Canadian Solar Manufacturing (Luoyang), Inc.

9. Hainan Yingli New Energy Resources Co., Ltd.

10. Hengshui Yingli New Energy Resources Co., Ltd.

11. Jinko Solar Co., Ltd.

12. Jinko Solar Import and Export Co., Ltd.

13. Lixian Yingli New Energy Resources Co., Ltd.

14. Shanghai BYD Co., Ltd.

15. Shenzhen Jiawei Photovoltaic Lighting Co., Ltd.

16. Shenzhen Yingli New Energy Resources Co., Ltd.

17. Tianjin Yingli New Energy Resources Co., Ltd.

18. Wuxi Suntech Power Co., Ltd.

19. Yingli Energy (China) Co., Ltd.

20. Yingli Green Energy Holding Company Limited

21. Yingli Green Energy International Trading Company Limited

22. Zhejiang Jinko Solar Co., Ltd.

Appendix III—List of Non-Selected Companies Under Review

1. Chint Solar (Zhejiang) Co., Ltd.

2. Hefei JA Solar Technology Co., Ltd.

3. Perlight Solar Co., Ltd.

4. Risen Energy Co., Ltd.

5. Shanghai JA Solar Technology Co., Ltd.

6. Shenzhen Sungold Solar Co., Ltd.

7. Sunny Apex Development Limited

[FR Doc. 2017-19292 Filed 9-11-17; 8:45 am]

BILLING CODE 3510-DS-P